DEPARTMENT OF DEFENSE

Department of the Navy

Meeting of the Chief of Naval Operations (CNO) Executive Panel

AGENCY: Department of the Navy, DOD.

ACTION: Notice of closed meeting.

SUMMARY: The CNO Executive Panel will report on the findings and recommendations of the Global Governance Subcommittee to the Chief of Naval Operations. The meeting will consist of discussions of the U.S. Navy's emerging missions and relationships with non-military organizations.

DATES: The meeting will be held May 30, 2006 from 1 p.m. to 2:30 p.m.

ADDRESSES: The meeting will be held at the Chief of Naval Operations office, Room 4E662, 2000 Navy Pentagon, Washington, DC 20350.

FOR FURTHER INFORMATION CONTACT: CDR Chris Corgnati, CNO Executive Panel, 4825 Mark Center Drive, Alexandria, VA 22311, 703-681-6206.

SUPPLEMENTARY INFORMATION: Pursuant to the provisions of the Federal Advisory Committee Act (5 U.S.C. App. 2), these matters constitute classified information that is specifically authorized by Executive Order to be kept secret in the interest of national defense and are, in fact, properly classified pursuant to such Executive Order. Accordingly, the Secretary of the Navy has determined in writing that the public interest requires that all sessions of this meeting be closed to the public because they will be concerned with matters listed in section 552b(c)(1) of title 5, United States Code.

Dated: May 22, 2006.
M.A. Harvison,
Lieutenant, Judge Advocate General's Corps, U.S. Navy, Federal Register Liaison Officer.

[FR Doc. E6-8132 Filed 5-25-06; 8:45 am]

BILLING CODE 3810-FF-P